DEPARTMENT OF TRANSPORTATION

Coast Guard

33 CFR Part 165

[CGD01-01-148]

RIN 2115-AA97

Safety and Security Zones; Newport Naval Station, Newport, RI

AGENCY: Coast Guard, DOT.

ACTION: Temporary final rule.

SUMMARY: The Coast Guard is establishing temporary safety and security zones in the vicinity of Newport Naval Station, Newport, Rhode Island, which will be enforced during times when U.S. or foreign naval vessels make port visits to and are berthed at Newport Naval Station, Newport, Rhode Island. The safety and security zones are needed to safeguard the public, the area encompassing Coddington Cove, and visiting vessels and their crews, from sabotage or other subversive acts, accidents, or other causes of a similar nature. Entry into these zones during times in which visiting vessels are berthed is prohibited unless previously authorized by the Captain of the Port, Providence, Rhode Island, or by his authorized patrol representative. The Coast Guard will announce via Broadcast Notice to Mariners when visiting navel vessels will be present in the zones.

DATES: This rule is effective from October 2, 2001, to March 31, 2002.

ADDRESSES: Documents as indicated in this preamble are available for inspection and copying at Marine Safety Office Providence, 20 Risho Avenue, East Providence, Rhode Island between the hours of 8 a.m. and 3 p.m., Monday through Friday, except Federal holidays.

FOR FURTHER INFORMATION CONTACT: LT David C. Barata at Marine Safety Office Providence, (401) 435-2335.

SUPPLEMENTARY INFORMATION:

Regulatory Information

Pursuant to 5 U.S.C. 553, a notice of proposed rulemaking (NPRM) was not published for this regulation. Good cause exists for not publishing a NPRM and for making this regulation effective in less than 30 days after publication in the Federal Register. Due to the catastrophic nature and extent of damage realized from the aircraft crashes into the World Trade Center towers on September 11, 2001, this rulemaking is urgently necessary to protect the national security interests of the United States and its allies against future potential terrorist strikes against governmental targets. Any delay in the establishment and enforcement of this regulation's effective date would be unnecessary and contrary to public interest and national security since immediate action is needed to protect U.S. and foreign naval vessels intending to visit Newport Naval Station in the immediate future, as well as their crews, the public, and the area adjoining Coddington Cove.

Background and Purpose

From June 25 through September 30, 2001, safety and security zones were established around the Newport Naval Station to protect U.S. Navy vessels visiting Newport Naval Station between that time period, as well as their crews, the public, and the surrounding area. These zones encompassed an area bound as follows: From a point beginning on land at Latitude 41°32′13″ N, Longitude 071°18′43″ W; thence westward along the breakwater to a point on the breakwater at Latitude 41°31′58″ N, Longitude 071°19′28″ W; thence southeasterly 1100 yards to a point on the end of Pier 1 at Latitude 41°31′38″ N, Longitude 071°19′06″ W; thence east to a point on land at Latitude 41°31′43″ N, Longitude 071°18′47″ W; thence north along the shoreline to the beginning point.

On September 11, 2001, two commercial aircraft were hijacked from Logan Airport in Boston, Massachusetts and flown into the World Trade Center in New York, New York inflicting catastrophic human casualties and property damage. A similar attack was conducted on the Pentagon on the same day. National security and intelligence officials warn that future terrorist attacks are likely. Due to these heightened security concerns, safety and security zones are prudent for an additional period of time, and for a larger area than previously covered. From October 1, 2001, to March 31, 2002, various visiting U.S. or foreign Navy vessels will be berthed at Pier 2 on the Newport Naval Station, Newport, RI. Pier 2 is located within Coddington Cove, along the East Passage of Narragansett Bay. The safety and security zones are needed to protect visiting vessels, their crews, and the public, from harmful or subversive acts, accidents or other causes of a similar nature in the vicinity of Coddington Cove. The safety and security zones have identical boundaries, and include all waters bound as follows: From a point beginning on land at Latitude 41°32′13″ N, Longitude 071°18′43″ W; thence westward along the breakwater to a point on the breakwater at Latitude 41°31′58″ N, Longitude 071°19′28″ W; thence southerly 1150 yards to Coddington Point at Latitude 41°31′26″ N, Longitude 071°19′26″ W; thence counterclockwise along the shoreline to the beginning point. All persons, other than those approved by the Captain of the Port or his authorized patrol representative will be prohibited from entering into the zones during times in which visiting vessels are present and the zones are enforced. The zones encompass the area within a line drawn from the western most edge of the charted breakwater to the eastern most edge of Coddington Point. The public will be made aware of dates and times visiting navel vessels will be present in the zones through a Broadcast Notice to Mariners made from U.S. Coast Guard Group Woods Hole. U.S. Navy personnel will assist in the enforcement of these zones.

Regulatory Evaluation

This rule is not a significant regulatory action under section 3(f) of Executive Order 12866 and does not require an assessment of potential costs and benefits under section 6(a)(3) of that order. The Office of Management and Budget has not reviewed it under that order. It is not significant under the regulatory policies and procedures of the Department of Transportation (DOT) (44 FR 11040; February 26, 1979). The sizes of the zones are the minimum necessary to provide adequate protection for visiting vessels, their crews, adjoining areas, and the public. The entities most likely to be affected are lobstermen engaged in setting and retrieving pots, and pleasure craft engaged in recreational activities and sightseeing. These individuals and vessels have ample space outside of the safety and security zones to engage in these activities and therefore they will not be subject to undue hardship. Commercial vessels, excluding lobstermen, do not normally transit the area of the safety and security zones. Any lobstermen who have gear deployed within the safety and security zones, may request permission from the COTP or his authorized patrol representative to enter the zones to retrieve their gear. Any hardships experienced by persons or vessels are considered minimal compared to the national interest in protecting visiting vessels, their crews, and the public.

Small Entities

Under the Regulatory Flexibility Act (5 U.S.C. 601-612), we considered whether this rule would have a significant economic impact on a substantial number of small entities. The term “small entities” comprises small businesses and not-for-profit organizations that are independently owned and operated and are not dominant in their fields and governmental jurisdictions with populations of less than 50,000.

The Coast Guard certifies under 5 U.S.C. 605(b) that this rule will not have a significant economic impact on a substantial number of small entities. This rule will affect the following entities, some of which may be small entities: The owners or operators of vessels intending to transit into Coddington Cove from October 1, 2001 to March 31, 2002. The safety and security zones will not have a significant economic impact on a substantial number of small entities for the following reasons: Vessel traffic can pass safely around the area and only a small number of commercial fishing vessels operate in the area. Vessels engaged in recreational activities, sightseeing and commercial fishing have ample space outside of the safety and security zones to engage in these activities. Before the effective period, we will issue maritime advisories widely available to users of the area.

Assistance for Small Entities

Under section 213(a) of the Small Business Regulatory Enforcement Fairness Act of 1996 (Public Law 104-121), we want to assist small entities in understanding this rule so that they can better evaluate its effects on them and participate in the rulemaking process. If your small business or organization would be affected by this rule and you have questions concerning its provisions or options for compliance, please call LT David C. Barata, telephone (401) 435-2335. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comments on actions by employees of the Coast Guard, call 1-888-REG-FAIR (1-888-734-3247).

Collection of Information

This rule calls for no collection of information requirements under the Paperwork Reduction Act (44 U.S.C. 3501-3520.).

Federalism

We have analyzed this action under Executive Order 13132, and have determined that this rule does not have implications for federalism under that Order.

Unfunded Mandates

The Unfunded Mandates Reform Act of 1995 (2 U.S.C. 1531-1538) governs the issuance of Federal regulations that require unfunded mandates. An unfunded mandate is a regulation that requires a State, local, or tribal government or the private sector to incur direct costs without the Federal Government having first provided the funds to pay those costs. This rule will not impose an unfunded mandate.

Taking of Private Property

This temporary rule will not effect a taking of private property or otherwise have taking implications under Executive Order 12630, Governmental Actions and Interference with Constitutionally Protected Property Rights.

Civil Justice Reform

This temporary rule meets applicable standards in sections 3(a) and 3(b)(2) of Executive Order 12988, Civil Justice Reform, to minimize litigation, eliminate ambiguity, and reduce burden.

Protection of Children

We have analyzed this temporary rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard has considered the environmental impact of implementing this temporary rule and concluded that under figure 2-1, paragraph 34(g) of Commandant Instruction M16475.1D, this rule is categorically excluded from further environmental documentation. A “Categorical Exclusion Determination” is available in the docket.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 Part 165

Harbors, Marine safety, Navigation (water), Reporting and recordkeeping requirements, Security measures, Waterways.

For the reasons set out in the preamble, the Coast Guard amends 33 CFR part 165 as follows:

PART 165—[AMENDED]

1. The authority citation for part 165 continues to read as follows:

Authority: 33 U.S.C. 1231; 50 U.S.C. 191, 33 CFR 1.05-1(g), 6.04-1, 6.04-6,160.5; 49 CFR 1.46.

2. Add temporary § 165.T01-148 to read as follows:

§ 165.T01-148 Safety and Security Zones: Naval Station Newport, Newport, RI.

(a) Location. The following area is a safety and security zone: From a point beginning on land at Latitude 41°32′13″ N, Longitude 071°18′43′ W; thence westward along the breakwater to a point on the breakwater at Latitude 41°31′58″ N, Longitude 071°19″28″ W; thence southerly 1150 yards to Coddington Point at Latitude 41°31′26″ N, Longitude 071°19′26″ W; thence counterclockwise along the shoreline to the beginning point.

(b) Effective period. This section is effective from October 2, 2001, through March 31, 2002.

(c) Regulations.

(1) In accordance with the general regulations in §§ 165.23 and 165.33 of this part, entry into or movement within these zones during times in which visiting naval vessels are present is prohibited unless previously authorized by the Captain of the Port (COTP) Providence or his authorized patrol representative.

(2) No person may swim upon or below the surface of the water within the boundaries of the safety and security zones during times in which visiting naval vessels are present, unless previously authorized by the COTP Providence or his authorized patrol representative.

(3) All persons and vessels shall comply with the instructions of the COTP, and the designated on-scene U.S. Coast Guard or Navy patrol personnel. U.S. Coast Guard patrol personnel include commissioned, warrant, and petty officers of the U.S. Coast Guard. Navy patrol personnel include commissioned, warrant, and petty officers of the U.S. Navy.

(4) The general regulations covering safety and security zones in §§ 165.23 and 165.33, respectively, of this part apply.

Dated: October 2, 2001.
Mark G. VanHaverbeke,
Captain, U.S. Coast Guard, Captain of the Port.

[FR Doc. 01-25907 Filed 10-12-01; 8:45 am]

BILLING CODE 4910-15-U